DEPARTMENT OF ENERGY

Federal Energy Regulatory Commission

Combined Notice of Filings #2

Take notice that the Commission received the following electric rate filings:

Docket Numbers: ER09-548-002; EC11-108-001.

Applicants: ITC Great Plains, LLC.

Description: ITC Great Plains, LLC submits compliance filing to Begin Amortization of Regulatory Assets.

Filed Date: 5/20/13.

Accession Number: 20130520-5202.

Comments Due: 5 p.m. ET 6/10/13.

Docket Numbers: ER12-778-001.

Applicants: Puget Sound Energy, Inc.

Description: Compliance Filing—Rate Case to be effective 4/1/2012.

Filed Date: 5/21/13.

Accession Number: 20130521-5071.

Comments Due: 5 p.m. ET 6/11/13.

Docket Numbers: ER13-85-002.

Applicants: Maine Public Service Company.

Description: Filing of an Order No. 1000 Compliance Filing to be effective 12/11/2012.

Filed Date: 5/21/13.

Accession Number: 20130521-5058.

Comments Due: 5 p.m. ET 6/20/13.

Docket Numbers: ER13-1062-001.

Applicants: Copper Mountain Solar 1, LLC.

Description: Copper Mountain Solar 1, LLC Compliance Filing to be effective 4/25/2013.

Filed Date: 5/21/13.

Accession Number: 20130521-5054.

Comments Due: 5 p.m. ET 6/11/13.

Docket Numbers: ER13-1530-000.

Applicants: Woodway Energy Partners, LLC.

Description: Notice of Cancellation to be effective 5/22/2013.

Filed Date: 5/21/13.

Accession Number: 20130521-5022.

Comments Due: 5 p.m. ET 6/11/13.

Docket Numbers: ER13-1531-000.

Applicants: Southwestern Public Service Company.

Description: 2013-5-21_SPS-RBEC-GSEC-Cartrite-IA-661-0.0.0 to be effective 5/22/2013.

Filed Date: 5/21/13.

Accession Number: 20130521-5038.

Comments Due: 5 p.m. ET 6/11/13.

Docket Numbers: ER13-1532-000.

Applicants: Southwestern Public Service Company.

Description: 2013-5-21_SPS-RBEC-GSEC-McBryde-IA-660-0.0.0 to be effective 5/22/2013.

Filed Date: 5/21/13.

Accession Number: 20130521-5052.

Comments Due: 5 p.m. ET 6/11/13.

Docket Numbers: ER13-1533-000.

Applicants: Southwest Power Pool, Inc.

Description: 2548 KMEA and Westar Energy Meter Agent Agreement to be effective 5/1/2013.

Filed Date: 5/21/13.

Accession Number: 20130521-5055.

Comments Due: 5 p.m. ET 6/11/13.

Docket Numbers: ER13-1534-000.

Applicants: Arizona Public Service Company.

Description: Cancellation of Four Corners related Agreements, part of Rate Schedule No. 211 to be effective 7/1/2013.

Filed Date: 5/21/13.

Accession Number: 20130521-5127.

Comments Due: 5 p.m. ET 6/11/13.

Docket Numbers: ER13-1535-000.

Applicants: San Diego Gas & Electric Company.

Description: SDG&E Black Start Amendment to be effective 7/1/2013.

Filed Date: 5/21/13.

Accession Number: 20130521-5130.

Comments Due: 5 p.m. ET 6/11/13.

Take notice that the Commission received the following qualifying facility filings:

Docket Numbers: QF13-444-000.

Applicants: The Procter & Gamble Paper Products Company.

Description: Form 556 of The Procter & Gamble Paper Products Company.

Filed Date: 5/21/13.

Accession Number: 20130521-5049.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 21, 2013.
Nathaniel J. Davis, Sr.,
Deputy Secretary.

[FR Doc. 2013-12804 Filed 5-29-13; 8:45 am]

BILLING CODE 6717-01-P